INTERNATIONAL TRADE COMMISSION

[Investigation No. 337-TA-1057; Enforcement Proceeding]

Certain Robotic Vacuum Cleaning Devices and Components Thereof Such as Spare Parts; Notice of Institution of Formal Enforcement Proceeding

AGENCY: U.S. International Trade Commission.

ACTION: Notice.

SUMMARY: Notice is hereby given that the U.S. International Trade Commission has instituted a formal enforcement proceeding related to cease and desist orders issued in the above-captioned investigation.

FOR FURTHER INFORMATION CONTACT: Robert Needham, Office of the General Counsel, U.S. International Trade Commission, 500 E Street SW, Washington, DC 20436, telephone (202) 708-5468. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server (https://www.usitc.gov). The public record for this investigation may be viewed on the Commission's electronic docket (EDIS) at https://edis.usitc.gov. Hearing-impaired persons are advised that information on this matter can be obtained by contacting the Commission's TDD terminal on (202) 205-1810.

SUPPLEMENTARY INFORMATION: The Commission instituted an investigation on May 23, 2017, based on a complaint filed by iRobot Corporation of Bedford, Massachusetts (“iRobot”). 82 FR 23593-94. The complaint, as supplemented, alleged violations of section 337 of the Tariff Act of 1930, as amended, 19 U.S.C. 1337, in the importation into the United States, the sale for importation, and the sale within the United States after importation of certain robotic vacuum cleaning devices and components thereof such as spare parts that infringe certain claims of, inter alia, U.S. Patent No. 9,038,233 (“the '233 patent”). Id. The Commission's notice of investigation named as a respondent, inter alia, Shenzhen Silver Star Intelligent Technology Co., Ltd., of Shenzhen, China (“Silver Star”) and bObsweep USA of Henderson, Nevada and bObsweep, Inc. of Toronto, Canada (together, “bObsweep”). Id. at 23593. The Office of Unfair Import Investigations did not participate in the investigation. Id.

On November 30, 2018, the Commission found, inter alia, that Silver Star and bObsweep violated section 337 with respect to the '233 patent, and issued a limited exclusion order (“LEO”) against, inter alia, Silver Star with respect to claims 1, 10, 11, and 14-16 of the '233 patent. 83 FR 63186-87. The Commission also issued cease and desist orders (“CDOs”) against Silver Star's customer bObsweep regarding those same claims. Id.

On January 30, 2019, Silver Star filed a request for an advisory opinion that eight of its products do not violate the LEO and CDOs. On February 11, 2019, iRobot opposed the advisory opinion request on numerous grounds. On March 15, 2019, the Commission determined to institute an advisory opinion proceeding and delegated the proceeding to an administrative law judge.

On February 21, 2019, iRobot filed a complaint requesting that the Commission institute a formal enforcement proceeding under Commission Rule 210.75(b) to investigate alleged violations of the CDOs by bObsweep. On March 5, 2019, bObsweep filed a letter opposing the institution of a formal enforcement proceeding.

Having examined the enforcement complaint and the supporting documents, as well as the letter, the Commission has determined to institute a formal enforcement proceeding to determine whether bObsweep is in violation of the CDOs issued in the original investigation and what, if any, enforcement measures are appropriate. The following entities are named as parties to the formal enforcement proceeding: (1) Complainant iRobot; (2) respondent Silver Star; and (3) the Office of Unfair Import Investigations. The Commission has further determined to consolidate the enforcement proceeding with the advisory opinion proceeding.

The authority for the Commission's determination is contained in section 337 of the Tariff Act of 1930, as amended (19 U.S.C. 1337), and in part 210 of the Commission's Rules of Practice and Procedure (19 CFR part 210).

By order of the Commission.
Issued: March 25, 2019.
Katherine Hiner,
Acting Secretary to the Commission.

[FR Doc. 2019-06044 Filed 3-28-19; 8:45 am]

BILLING CODE 7020-02-P